DEPARTMENT OF COMMERCE

National Oceanic and Atmospheric Administration

[I.D. 031000C]

Western Pacific Fishery Management Council; Public Meeting

AGENCY: National Marine Fisheries Service (NMFS), National Oceanic and Atmospheric Administration (NOAA), Commerce.

ACTION: Notice of public meeting.

SUMMARY: The Western Pacific Fishery Management Council's (Council) Pelagics Advisory Panel (PAP) members will hold a meeting.

DATES: The meeting will be held April 5-6, 2000, from 8:30 a.m. to 5:00 p.m., each day.

ADDRESSES: The meeting will be held at the Ala Moana Hotel, Hibiscus Number 1 Ball Room, 410 Atkinson Drive, Honolulu, HI 96814.

Council address: Western Pacific Fishery Management Council, 1164 Bishop St., Suite 1405, Honolulu, HI 96813.

FOR FURTHER INFORMATION CONTACT: Kitty M. Simonds, Executive Director; telephone: 808-522-8220.

SUPPLEMENTARY INFORMATION: The PAP meeting will discuss and may make recommendations to the Council on the following agenda items:

1. Review of recommendations arising from 1999 PAP;

2. Hawaii and American Samoa longline fishery reports;

3. Hawaii longline fishery issues;

4. Report of the Recreational Fisheries Data Task Force;

5. Recreational fishery issues;

6. Area closure for large pelagic fishing vessels around the islands of American Samoa;

7. Shark management in Hawaii;

8. Management of longline-protected species interactions;

9. Progress of the Multi-lateral High Level Conference process to implement a management convention for tunas in the Central-West Pacific;

10. Blue marlin research;

11. Council process; and

12. Other business as required.

Although non-emergency issues not contained in this agenda may come before this group for discussion, in accordance with the Magnuson-Stevens Fishery Conservation and Management Act, those issues may not the subject of formal action during this meeting. Action will be restricted to those issues specifically identified in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to meeting date.

Dated: March 13, 2000.
Bruce C. Morehead,
Acting Director, Office of Sustainable Fisheries, National Marine Fisheries Service.

[FR Doc. 00-6716 Filed 3-16-00; 8:45 am]

BILLING CODE 3510-22-F